SMALL BUSINESS ADMINISTRATION

[Disaster Declaration #16633 and #16634; LOUISIANA Disaster Number LA-00103]

Presidential Declaration Amendment of a Major Disaster for the State of Louisiana

AGENCY: U.S. Small Business Administration.

ACTION: Amendment 4.

SUMMARY: This is an amendment of the Presidential declaration of a major disaster for the State of Louisiana (FEMA-4559-DR), dated 08/28/2020.

Incident: Hurricane Laura.

Incident Period: 08/22/2020 through 08/27/2020.

DATES: Issued on 09/09/2020.

Physical Loan Application Deadline Date: 10/27/2020.

Economic Injury (EIDL) Loan Application Deadline Date: 05/28/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Louisiana, dated 08/28/2020, is hereby amended to include the following areas as adversely affected by the disaster:

Primary Parishes (Physical Damage and Economic Injury Loans): Morehouse, Union.

Contiguous Parishes/Counties (Economic Injury Loans Only):

Louisiana: West Carroll.

Arkansas: Ashley, Chicot, Union.

All other information in the original declaration remains unchanged.

(Catalog of Federal Domestic Assistance Number 59008)

Cynthia Pitts,
Acting Associate Administrator for Disaster Assistance.

[FR Doc. 2020-20357 Filed 9-15-20; 8:45 am]

BILLING CODE 8026-03-P